DEPARTMENT OF ENERGY

Berwanger, Inc.

AGENCY: Office of the General Counsel, Department of Energy.

ACTION: Notice of intent to grant exclusive license.

SUMMARY: Notice is hereby given to an intent to grant to Berwanger, Inc., of Houston, TX, an exclusive or partially exclusive license to software entitled “Thermal Safety Software” (TSS), developed under ISTC project # 1498. The United States Government, as the exclusive licensee to distribute the software for commercial purposes in the United States, has the right to sublicense the software. A Notice to the effect that the computer software was available for license appeared in the Federal Register, October 5, 2004 (69 FR 59585).

DATES: Written comments or nonexclusive license applications are to be received at the address listed below no later than December 6, 2004.

ADDRESSES: Office of the Assistant General Counsel for Technology Transfer and Intellectual Property, U.S. Department of Energy, 1000 Independence Ave., SW., Washington, DC 20585.

FOR FURTHER INFORMATION CONTACT: John T. Lucas, Office of the Assistant General Counsel for Technology Transfer and Intellectual Property, U.S. Department of Energy, Forrestal Building, Room 6F-067, 1000 Independence Ave., SW., Washington, DC 20585; Telephone (202) 586-2939.

SUPPLEMENTARY INFORMATION: 35 U.S.C. 209 provides federal agencies with authority to grant exclusive licenses in federally-owned inventions which are or may be patentable, if, among other things, the agency finds that the public will be served by the granting of the license. The statute requires that no exclusive license may be granted unless public notice of the intent to grant the license has been provided, and the agency has considered all comments received in response to that public notice, before the end of the comment period.

Berwanger, Inc., of Houston, TX has applied for an exclusive license to TSS and has plans for its commercialization. The exclusive license will be subject to a license and other rights retained by the U.S. Government, and other terms and conditions to be negotiated. DOE intends to negotiate to grant the license, unless, within 30 days of this notice, the Assistant General Counsel for Technology Transfer and Intellectual Property, Department of Energy, Washington, DC 20585, receives in writing any of the following, together with supporting documents:

(i) A statement from any person setting forth reasons why it would not be in the best interests of the United States to grant the proposed license; or

(ii) An application for a nonexclusive license to the software in which applicant states that if already has brought the invention to practical application or is likely to bring the software to practical application expeditiously.

The Department will review all timely written responses to this notice, and will proceed with negotiating the license if, after consideration of written responses to this notice, a finding is made that the license is in the public interest.

Issued in Washington, DC, on November 1, 2004.
Paul A. Gottlieb,
Assistant General Counsel for Technology Transfer and Intellectual Property.

[FR Doc. 04-24740 Filed 11-4-04; 8:45 am]

BILLING CODE 6450-01-P